GENERAL SERVICES ADMINISTRATION

[Notice-PBS-2023-08; Docket No. 2023-0002; Sequence No. 28]

Notice of Intent To Prepare an Environmental Impact Statement (EIS) for the Grand Portage Land Port of Entry Modernization and Expansion Project in Grand Portage, Minnesota

AGENCY: Public Buildings Service (PBS), General Services Administration (GSA).

ACTION: Notice of intent (NOI); announcement of meeting.

SUMMARY: GSA intends to prepare an Environmental Impact Statement (EIS) and conduct the section 106 process of the National Historic Preservation Act (NHPA) to address proposed improvements at the Grand Portage Land Port of Entry (LPOE), including site expansion, demolition, and new construction. This NOI also announces the public scoping process for the EIS.

DATES:

Public Scoping Period—Interested parties are invited to provide comments regarding the scope of the EIS. The public scoping period begins with the publication of this NOI in the Federal Register and continues until Sunday, October 22, 2023. Written comments must be received by the last day of the scoping period (see ADDRESSES section of this NOI on how to submit comments).

Meeting Date—GSA will host a hybrid (virtual and in-person) public and stakeholder meeting on Thursday, October 5, 2023, from 5:00 p.m. to 7:00 p.m., Central Daylight Time (CDT). The purpose of the meeting is to provide information on the project and to encourage public feedback on the scope of the EIS. The meeting will be conducted in-person at the Grand Portage Welcome Center, but members of the public may participate via video-conference on Zoom to view an online broadcast of the meeting (see ADDRESSES section for location address). Refer to the Public Meeting Information section of this NOI on how to access the online portion of the public meeting.

ADDRESSES: Meeting Location—The public may attend the meeting at the Grand Portage Welcome Center, 9393 E MN-61, Grand Portage, MN to view the presentation in-person. GSA staff members will be available (in-person and virtually) to assist the public as they offer comments whether they are participating virtually or in person.

Public Scoping Comments

In addition to oral comments and written comments provided at the public meeting, members of the public may also submit comments by one of the following methods. All oral and written comments will be considered equally and will be part of the public record.

• Email: michael.gonczar@gsa.gov. Please include `Grand Portage LPOE EIS Scoping Comment' in the subject line of the message.

• Mail: ATTN: Michael Gonczar, GSA Grand Portage LPOE EIS; U.S. General Services Administration, Region 5; 230 S Dearborn Street, Suite 3600, Chicago, IL 60604.

FOR FURTHER INFORMATION CONTACT: Michael Gonczar, NEPA Program Manager, GSA, 312-810-2326, michael.gonczar@gsa.gov.

SUPPLEMENTARY INFORMATION:

Public Meeting Information

The in-person meeting will begin with an open house format from 5:00 p.m. to 5:30 p.m. CDT. This portion of the meeting will not be broadcasted. The hybrid public meeting will begin at 5:30 p.m. with presentations on the NEPA and NHPA processes and the proposed project. A copy of the presentation slideshow will be made available prior to the meeting at: https://www.gsa.gov/real-estate/gsa-properties/land-ports-of-entry-and-the-bil/bipartisan-infrastructure-law-construction-project/minnesota. Following the presentation, there will be a moderated session during which members of the public can provide scoping comments. Members participating virtually or attending in-person will be able to comment. Commenters will be allowed 3 minutes to provide comments. Comments will be recorded. Attendees can also provide written comments at the public meeting should they not wish to speak. In addition, a court reporter will be available after the presentation, should attendees wish to provide a verbal comment in private. All written or verbal comments will be treated with equal importance. Following the presentation and public comment session, the meeting will continue with an open house format until 7:00 p.m. CDT, which will not be broadcasted.

Members of the public may join the EIS virtual public meeting by entering the Meeting ID: 889 5436 6939, using any of the below methods, or by using the following link https://us06web.zoom.us/j/88954366939?pwd=WDZXQTc2dDM3UUtYc3pyN0FVS1lNUT09. Note that the meeting is best viewed through the Zoom app. Attendees are encouraged to download the Zoom app at the Zoom website (https://zoom.us) on their personal computer or on their mobile device and test their connection prior to the meeting to ensure best results.

• By personal computer (via the Zoom app)—Install the Zoom app at the Zoom website (https://zoom.us) and launch the Zoom app. Click `Join a Meeting' and enter the above Meeting ID. Follow the prompts to enter your name and email address to access the meeting; or

• By personal computer (via the Zoom website)—Using your computer's browser, go to the Zoom website at http://zoom.us/join and enter the above Meeting ID. Click `Join from your browser' and follow the prompts to enter your name; or

• By mobile device (via the Zoom mobile app)—Install and launch the Zoom app. Enter the above Meeting ID.

Whether joining through the Zoom app or web browser, attendees should follow the prompts to connect their computer audio. Attendees are encouraged to connect through the `Computer Audio' tab and click `Join Audio by Computer' under the `Join Audio' button on the bottom of their screen. Users who do not have a computer microphone and wish to provide a comment during the meeting may connect by following the prompts under the `Phone Call' tab under the `Join Audio' button.

For members of the public who do not have access to a personal computer, they may join the meeting audio by dialing the following number: 507-473-4847. When prompted, enter the following information: Meeting ID—889 5436 6939, followed by the pound (#) key; then press pound (#) again when prompted for a participant ID. Note, dialing in to the meeting is only necessary if you are not accessing the meeting through a personal computer or mobile app, or if you would like to provide oral comments during the meeting but do not have a computer microphone.

The public meeting will be recorded and available for viewing on the GSA website in the days following the meeting. All comments provided will become part of the formal record.

Scoping Process

The purpose of the public scoping process is to identify relevant issues that will influence the scope of analysis of the human and natural environment including cultural resources. The scoping process will be accomplished through a hybrid in-person and virtual public scoping meeting, direct mail correspondence to appropriate federal, state, and local agencies, and to private organizations and citizens who have previously expressed, or are known to have, an interest in the project. The EIS will include public input on alternatives and impacts.

The public scoping meeting will also initiate GSA's public consultation required by NHPA. GSA seeks input at this meeting that will assist the agency in planning for the Section 106 consultation process. This includes identifying consulting parties, determining the area of the undertaking's potential effects on cultural resources (Area of Potential Effects), and seeking agreement regarding ways to avoid, minimize, or mitigate adverse effects. Federal, state, and local agencies, along with members of the public, are invited to participate in the NEPA scoping and section 106 consultation process.

The NHPA and NEPA are two separate laws which require federal agencies to consider the impacts to historic properties and the human environment before making decisions. NHPA and NEPA are independent statutes, yet may be executed concurrently to optimize efficiencies, transparency, and accountability to better understand the effects to the human, natural, and cultural environment. The EIS will be prepared pursuant to the requirements of the NEPA of 1969, the Council on Environmental Quality NEPA regulations, and the GSA Public Buildings Service NEPA Desk Guide. GSA will also consult with appropriate parties in accordance with Section 106 of the NHPA of 1966.

Opportunities for members of the public to become a consulting party during the NHPA Section 106 process will be presented during the public scoping meeting. You may submit a comment to express your interest in being a consulting party if you cannot attend the meeting.

Background

The existing 5.7-acre LPOE is located on the far northeast tip of Minnesota where the Pigeon River meets Lake Superior and serves as the port of entry to people and vehicles that connects Grand Portage, Minnesota to the town of Neebing, Ontario, Canada. The LPOE is located within the Grand Portage Band of Lake Superior Chippewa Reservation. The Grand Portage Band of the Lake Superior Chippewa will serve as a Cooperating Agency (CA) for this EIS. The purpose of the Proposed Action is for GSA to support CBP's mission by bringing the Grand Portage LPOE in line with current land port design standards and operational requirements of CBP, while addressing existing deficiencies identified with the ongoing port operations. Current LPOE facilities and configurations do not meet CBP's needs and do not allow for expeditious and safe inspection of the traveling public. The LPOE facilities were constructed in 1965, are too small for CBP's needs, and are served by an inefficient road design. Currently, the LPOE contains a main building with primary and secondary inspection canopies, secondary inspection garage, and public restroom facilities located between the northbound and southbound lanes of Highway 61. There are two inbound primary inspection lanes; one for non-commercial vehicles and one for buses and commercial traffic. A commercial inspection dock and GSA garage are located north of the inbound lanes of Highway 61. There are currently no outbound inspection capabilities at the LPOE.

A feasibility study for this project was completed in 2019. A total of three build alternatives were considered, and a preferred build alternative was identified. This alternative would consist of demolishing the existing building, constructing new facilities at the existing LPOE, and expanding the LPOE to meet the required space standards and increased security requirements of the Federal Inspection Services.

Following the feasibility study, a Program Development Study (PDS) is the next formal step to further refine the build alternatives, so as to develop a facility plan that is respectful of the Grand Portage Band of Lake Superior Chippewa Reservation property and including the Grand Portage State Park. To date, GSA has issued a 35 percent PDS report in December 2022 and 50 percent PDS report in May 2023; the final alternative design that would support construction will be identified in the 100 percent PDS. As of the 50 percent PDS, the identified build alternative is located on an approximately 8.13-acre site on and around the existing Grand Portage LPOE and is located entirely within the Minnesota Department of Transportation (MnDOT) easement along Highway 61.

Alternatives Under Consideration

GSA has preliminarily identified one action alternative that may be assessed in the EIS:

• Alternative 1: Construct the facilities as described in the 50 percent PDS on an 8.13-acre site on and around the existing Grand Portage LPOE and located entirely within the MnDOT easement.

The No Action Alternative will also be considered to satisfy federal requirements for analyzing “no action” under NEPA. Analysis of this alternative will provide a baseline for comparison with impacts from Alternative 1.

The EIS will address the potential environmental impacts of the proposed alternatives on environmental resources including cultural resources, geology and soils, water resources, biological resources, air quality and climate change, noise, traffic and transportation, land use and visual resources, utilities, and human health and safety. The EIS will also address the socioeconomic effects of the project, as well as impacts on environmental justice (EJ) populations. Impacts may occur from air emissions, noise, and traffic delays associated with construction; as well as soil disturbance from earth moving activities and resultant sedimentation of nearby waterways. Close consideration will be given to potential impacts to cultural resources, and GSA will work closely with the Grand Portage Band of the Lake Superior Chippewa to determine if there are any potential impacts to sensitive tribal resources. Wetlands may be present near the project site; and a wetland delineation will be conducted to further investigate potential impacts. Long term benefits to traffic and transportation, air quality, and the local economy are expected from operations of the expanded and modernized LPOE and associated improved traffic flows.

William Renner,
Director, Facilities Management and Services Programs Division, Great Lakes Region 5, U.S. General Services Administration.

[FR Doc. 2023-20381 Filed 9-21-23; 8:45 am]

BILLING CODE 6820-CF-P